DEPARTMENT OF HOUSING AND URBAN DEVELOPMENT

[Docket No. FR-5142-N-02]

Notice of Funding Opportunity (NOFA) for the Brownfields Economic Development Initiative for Fiscal Year 2007 Extension of Application Deadline

AGENCY: Office of the Assistant Secretary for Community Planning and Development, HUD.

ACTION: Notice of funding availability (NOFA); notice of extension of application deadline.

SUMMARY: On September 24, 2007, HUD published its NOFA for the Brownfields Economic Development Initiative. Because the initial deadline falls on December 24, 2007, a day on or near a holiday, HUD has determined to extend the deadline.

DATES: The application deadline date for the BEDI NOFA competition is December 28, 2007 at 11:59:59 p.m.

FOR FURTHER INFORMATION CONTACT: David Kaminsky, Office of Economic Development, Office of Community Planning and Development, Department of Housing and Urban Development, 451 Seventh Street, SW., Room 7212, Washington, DC 20410-7000; telephone 202-402-4612 (this is not a toll-free number). Persons with speech or hearing impairments may access this number through TTY by calling the toll-free Federal Income Relay Service at 800-877-8339.

SUPPLEMENTARY INFORMATION: On September 24, 2007, HUD published its NOFA for the Brownfields Economic Development Initiative (BEDI) for Fiscal Year 2007 (72 FR 54324). The competition was stated to close on December 24, 2007. In order to avoid any problems or added difficulties that might arise from the close date falling on or near a holiday, HUD has determined to extend the deadline date by three days, to December 28, 2007, in order to facilitate the application process. Extending the deadline date will also permit applicants to have an additional three days to obtain assistance from the Grants.gov desk help at 800-518-GRANTS (this is a toll free number).

Potential applicants are advised that the provisions of the BEDI NOFA that discuss timely receipt of applications continue to apply. Specifically, section IV.F. of the BEDI NOFA (72 FR 54330) provides that all applications must be received and validated by Grants.gov; or received no later than 11:59:59 on the deadline date. In order to ensure timely receipt, HUD strongly recommends applicants submit their electronic applications 48-72 hours prior to the deadline to ensure the application validation is processed prior to the deadline.

Dated: October 23, 2007.
Nelson R. Bregón,
General Deputy Assistant Secretary for Community Planning and Development.

[FR Doc. E7-21558 Filed 11-1-07; 8:45 am]

BILLING CODE 4210-67-P